ELECTION ASSISTANCE COMMISSION

Publication of State Plan Pursuant to the Help America Vote Act

AGENCY: U.S. Election Assistance Commission (EAC).

ACTION: Notice.

SUMMARY: Pursuant to sections 254(a)(11)(A) and 255(b) of the Help America Vote Act (HAVA), Public Law 107-252, the U.S. Election Assistance Commission (EAC) hereby causes to be published in the Federal Register changes to the HAVA State plans previously submitted by New Jersey and Wisconsin.

DATES: This notice is effective upon publication in the Federal Register.

FOR FURTHER INFORMATION CONTACT: Bryan Whitener, Telephone 202-566-3100 or 1-866-747-1471 (toll-free).

Submit Comments: Any comments regarding the plans published herewith should be made in writing to the chief election official of the individual State at the address listed below.

SUPPLEMENTARY INFORMATION: On March 24, 2004, the U.S. Election Assistance Commission published in the Federal Register the original HAVA State plans filed by the fifty States, the District of Columbia and the Territories of American Samoa, Guam, Puerto Rico, and the U.S. Virgin Islands. 69 FR 14002. HAVA anticipated that States, Territories and the District of Columbia would change or update their plans from time to time pursuant to HAVA section 254(a)(11) through (13). HAVA sections 254(a)(11)(A) and 255 require EAC to publish such updates. This is the second revision to New Jersey's State plan and the first revision to Wisconsin's State plan.

The revised State plan from New Jersey provides information on program accomplishments and changes in the respective budgets to account for the use of Fiscal Year 2008 and 2009 requirements payments in addition to any future HAVA funding. The revised State plan from Wisconsin provides a total revision to its previous State plan including information on program accomplishments and changes in the respective budgets to account for the use of Fiscal Year 2008 and 2009 requirements payments. In accordance with HAVA section 254(a)(12), all the State plans submitted for publication provide information on how the respective State succeeded in carrying out its previous State plan. New Jersey and Wisconsin confirm that these revisions to their respective State plans were developed and submitted to public comment in accordance with HAVA sections 254(a)(11), 255, and 256.

Upon the expiration of thirty days from November 12, 2009, the State is eligible to implement the changes addressed in the plan that is published herein, in accordance with HAVA section 254(a)(11)(C). EAC wishes to acknowledge the effort that went into revising this State plan and encourages further public comment, in writing, to the State election official listed below.

Chief State Election Official

The Honorable Nina Mitchell Wells, Esq., Secretary of State, P.O. Box 304, Trenton, New Jersey 08625, Phone: (609) 292-3760, Fax: (609) 777-1280.

Mr. Kevin J. Kennedy, Director and General Counsel, Government Accountability Board, Post Office Box 2973, 212 East Washington Avenue, 3rd Floor, Madison, Wisconsin 53701, Phone: (608) 266-8005, Fax: (608) 267-0500.

Thank you for your interest in improving the voting process in America.

Dated: October 27, 2009.
Thomas R. Wilkey,
Executive Director, U.S. Election Assistance Commission.

BILLING CODE 6820-KF-P

[FR Doc. E9-26736 Filed 11-10-09; 8:45 am]

BILLING CODE 6820-KF-C